DEPARTMENT OF HEALTH AND HUMAN SERVICES

National Institutes of Health

National Cancer Institute; Amended Notice of Meeting

Notice is hereby given of a change in the meeting of the President's Cancer Panel, July 29, 2002, 9 a.m. to July 30, 2002,¹ 4 p.m., Cultural Center, Yakama Indian Nation, Yakima, WA which was published in the Federal Register on July 10, 2002, 67 FR 45747.

¹ Editorial Note: This document was received at the Office of the Federal Register on July 25, 2002.

The meeting is amended to change the meeting location to Eagle Seelatsee Auditorium, 401 Fort Road, Toppenish, WA. The meeting is open to the public.

Dated: July 23, 2002.
LaVerne Y. Stringfield,
Director, Office of Federal Advisory Committee Policy.

[FR Doc. 02-19265 Filed 7-30-02; 8:45 am]

BILLING CODE 4140-01-M